DEPARTMENT OF AGRICULTURE

Forest Service

Trinity County Resource Advisory Committee

AGENCY: Forest Service, USDA.

ACTION: Notice of meeting.

SUMMARY: The Trinity County Resource Advisory Committee (RAC) will meet on May 5, 2003 in Weaverville, California. The purpose of the meeting is to discuss the selection of Title II projects under Public Law 106-393, H.R. 2389, the Secure Rural Schools and Community Self-Determination Act of 2000, also called the “Payments to States” Act.

DATES: The meeting will be held on May 5, 2003 from 6:30 to 8:30 p.m.

ADDRESSES: The meeting will be held at the Trinity County Office of Education Conference Room, 201 Memorial Drive, Weaverville, California.

FOR FURTHER INFORMATION CONTACT: Ann Garland, Designated Federal Official, USDA, Six Rivers National Forest, PO Box 68, Willow Creek, CA 95573. Phone: (530) 629-2118. Email: agarland@fs.fed.us.

SUPPLEMENTARY INFORMATION: The committee will discuss proposed fuels reduction, watershed restoration, and public project. The meeting is open to the public. Public input opportunity will be provided and individuals will have the opportunity to address the committee at that time.

Dated: April 7, 2003.
S.E. ‘Lou’ Woltering,
Forest Servisor.

[FR Doc. 03-9016 Filed 4-11-03; 8:45 am]

BILLING CODE 3410-11-M